DEPARTMENT OF COMMERCE

National Oceanic and Atmospheric Administration

[RTID 0648-XB272]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application submitted by the Coonamessett Farm Foundation contains all of the required information and warrants further consideration. Regulations under the Magnuson-Stevens Fishery Conservation and Management Act require publication of this notification to provide interested parties the opportunity to comment on applications for proposed Exempted Fishing Permits.

DATES: Comments must be received on or before August 23, 2021.

ADDRESSES: You may submit written comments by the following method:

• Email: nmfs.gar.efp@noaa.gov. Include in the subject line “CFF Seasonal Scallop Survey EFP.”

FOR FURTHER INFORMATION CONTACT: Shannah Jaburek, Fishery Management Specialist; shannah.jaburek@noaa.gov, (978) 281-9135.

SUPPLEMENTARY INFORMATION: The Coonamessett Farm Foundation (CFF) submitted a complete application for an Exempted Fishing Permit (EFP) to conduct commercial fishing activities that the Atlantic Sea Scallop Fishery Management Plan regulations would otherwise restrict. This EFP would exempt the participating vessels from: Atlantic sea scallop days-at-sea (DAS) allocations at 50 CFR 648.53(b); crew size restrictions at § 648.51(c); observer program requirements at § 648.11(g); minimum mesh size restrictions at § 648.51(b)(2); minimum ring size restrictions at § 648.51(b)(3); dredge obstruction restriction at § 648.51(b)(4)(iii); Closed Area II restrictions in § 648.59 and 648.60; dredge or net obstructions at § 648.51(b)(4)(iii); size and possession limits at § 648 subsections B and D through O for biological sampling only, and § 697.20 for lobster sampling and tagging only.

CFF applied for an EFP on April 5, 2021, to conduct a scallop survey in Georges Bank. This EFP would allow CFF to conduct the survey over four, 7-day survey trips on commercial scallop vessels from August 17, 2021, through July 30, 2022, at 50 fixed stations. The survey stations would be located in Closed Area II Southeast, Closed Area II Southwest, Closed Area II extension, and the eastern edge of the Southern Flank Scallop Management Simulator areas. The survey stations were chosen to provide data about scallop spawning, scallop meat quality, and seasonal patterns of habitat use by bycatch species caught in the scallop fishery.

Participating vessels would use two, 15-foot (4.6 m) turtle deflector dredges with 10-inch (25.4 cm) twine tops, 4-inch (10.2 cm) ring bags, 7-row aprons, and 2:1 twine top hanging ratios. One dredge would have a 50-mm cover net attached to catch juvenile scallops and other bycatch species that escape from normal scallop dredges. The dredge with the cover net would be towed for 10 minutes at 4.8 knots (8.9 km/hr). The dredge without the cover net would be towed for 30 minutes at 4.8 knots (8.9 km/hr). Dredges would be fished alternatively.

CFF researchers would be participating vessels at all times and would direct sampling activities. Scallop catch would be sorted into baskets and weighed. A subsample of catch would be measured and have meat quality and other biological metrics recorded. Flatfish bycatch would be weighed and measured for length, and reproductive data would be recorded for windowpane, winter, and yellowtail flounder. Crabs, moon snails, whelks, and other scallop predators would be weighed and counted. Sea stars would be sampled using the same protocols as scallops. Lobsters would have biological measurements taken and will be assessed for dredge damage. Lobsters would also be tagged in collaboration with the Atlantic Offshore Lobstermen's Association. No catch will be landed for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: August 2, 2021.
Jennifer M. Wallace,
Acting Director, Office of Sustainable Fisheries, National Marine Fisheries Service.

[FR Doc. 2021-16787 Filed 8-5-21; 8:45 am]

BILLING CODE 3510-22-P